DEPARTMENT OF COMMERCE

Foreign-Trade Zones Board

[B-80-2016]

Foreign-Trade Zone (FTZ) 148—Knoxville, Tennessee; Notification of Proposed Production Activity; CoLinx, LLC; (Bearing Units) Crossville, Tennessee

CoLinx, LLC (CoLinx) submitted a notification of proposed production activity to the FTZ Board for its facilities in Crossville, Tennessee within FTZ 148. The notification conforming to the requirements of the regulations of the FTZ Board (15 CFR 400.22) was received on November 17, 2016.

CoLinx already has authority to produce kits of bearing products within Sites 2, 6, 8 and 9 of FTZ 148. The current request would add foreign status materials/components to the scope of authority. Pursuant to 15 CFR 400.14(b), additional FTZ authority would be limited to the specific foreign-status materials/components described in the submitted notification (as described below) and subsequently authorized by the FTZ Board.

Production under FTZ procedures could exempt CoLinx from customs duty payments on the foreign-status materials/components used in export production. On its domestic sales, CoLinx would be able to choose the duty rates during customs entry procedures that apply to mounted unit roller assemblies (housed, spherical roller bearing units) and mounted unit ball assemblies (housed ball bearing units) (duty rate 4.5%) for the foreign-status materials/components noted below. Customs duties also could possibly be deferred or reduced on foreign-status production equipment.

The materials/components sourced from abroad include: Single-row, radial ball bearings (Y-bearings); bearings housings for ball bearings; and, corrugated paperboard boxes (duty rate ranges from duty-free to 5.8%).

Public comment is invited from interested parties. Submissions shall be addressed to the Board's Executive Secretary at the address below. The closing period for their receipt is January 4, 2017.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Elizabeth Whiteman at Elizabeth.Whiteman@trade.gov or (202) 482-0473.

Dated: November 18, 2016.
Andrew McGilvray,
Executive Secretary.

[FR Doc. 2016-28376 Filed 11-23-16; 8:45 am]

BILLING CODE 3510-DS-P